DEPARTMENT OF DEFENSE

Department of the Army; Corps of Engineers

AGENCY: U.S. Army Corps of Engineers, DoD.

ACTION: Notice of meeting.

SUMMARY: In accordance with Section 10(a)(2) of the Federal Advisory Committee Act (P.L. 92-463), announcement is made of the following committee meeting:

Name of Committee: Coastal Engineering Research Board (CERB).

Date of Meeting: June 12-16, 2000.

Place: Laguna Cliffs Marriott Resort, Dana Point, California.

Time: 1 p.m. to 5 p.m. (June 12, 2000).

8 a.m. to 5 p.m. (June 13, 2000)

8 a.m. to 4:30 p.m. (June 14, 2000)

8:30 a.m. to 10:30 a.m. (June 15, 2000)

1 p.m. to 5 p.m. (June 15, 2000)

8 a.m. to 12 p.m. (June 16, 2000)

FOR FURTHER INFORMATION CONTACT: Inquiries and notice of intent to attend the meeting may be addressed to Colonel Robin R. Cababa, Executive Secretary, Coastal Engineering Research Board, U.S. Army Engineer Research and Development Center, Waterways Experiment Station, 3909 Halls Ferry Road, Vicksburg, Mississippi 39180-6199.

SUPPLEMENTARY INFORMATION:

Proposed Agenda: The Coastal Inlets Research Program and the Monitoring Completed Coastal Projects Program Reviews, in conjunction with the CERB, will be discussed on the afternoon of June 12.

The CERB meeting will be June 13-14. The theme of the meeting is Regional Sediment Management. The session on June 13 will consist of presentations dealing with a review of CERB business and updates, such as Strategic Planning for Research and Development (R&D); R&D Funding Update; National Shoreline Study; Section 227, Shoreline Erosion Control Development and Demonstration Program; and North Carolina Beaches Study. A field trip is planned for the afternoon with an overview preceding the trip. On Wednesday, June 14, there will be presentations pertaining to the theme, such as Regional Sediment Management (Mobile Demonstration), Expansion of Regional Sediment Management, Ports Role in Regional Sediment Management, Dredging Industry Capabilities to Support Regional Sediment Management, Role of Academia in Regional Sediment Management, panel discussion of the State of California Perspectives on Regional Sediment Management, San Diego County Beach Nourishment Program, a panel discussion on County Perspectives on Regional Sediment Management, U.S. Geological Survey Research Relevant to Regional Sediment Management, and Regional Sediment Management Work Unit. The Board will go into Executive Session on the morning of June 15.

On Thursday afternoon, June 15, the Coastal Navigation and Storm Damage Reduction Program Review will be held, which also includes the Coastal Sedimentation and Dredging Proposals.

On Friday morning, June 16, the Coastal Navigation and Storm Damage Reduction Program Review continues with the Coastal Navigation Hydrodynamics Program proposals and the Coastal Structure Evaluation and Design work units. The morning session concludes with the Coastal Field Data Collection Program Review.

These meetings are open to the public; participation by the public is scheduled for 3:30 p.m. on June 14.

The entire meeting is open to the public, but since seating capacity of the meeting room is limited, advance notice of intent to attend, although not required, is requested in order to assure adequate arrangements. Oral participation by public attendees is encouraged during the time scheduled on the agenda; written statements may be submitted prior to the meeting or up to 30 days after the meeting.

James R. Houston,
Director, Coastal and Hydraulics Laboratory.

[FR Doc. 00-12675 Filed 5-18-00; 8:45 am]

BILLING CODE 3710-61-M